ENVIRONMENTAL PROTECTION AGENCY

[OPP-2002-0261; FRL-7275-9]

Notice of Receipt of Requests for Amendments to Delete Uses in Certain Pesticide Registrations

AGENCY: Environmental Protection Agency (EPA).

ACTION: Notice.

SUMMARY: In accordance with section 6(f)(1) of the Federal Insecticide, Fungicide, and Rodenticide Act (FIFRA), as amended, EPA is issuing a notice of receipt of request for amendments by registrants to delete uses in certain pesticide registrations. Section 6(f)(1) of FIFRA provides that a registrant of a pesticide product may at any time request that any of its pesticide registrations be amended to delete one or more uses. FIFRA further provides that, before acting on the request, EPA must publish a notice of receipt of any request on the Federal Register.

DATES: The deletions are effective on April 9, 2003, or on November 12, 2002, for products with registration numbers 007401-00267, 062719-00081, and 062719-84, unless the Agency receives a withdrawal request on or before April 9, 2003, or on before November 12, 2002, for products with registration numbers 007401-00267, 062719-00081, and 062719-00084.

Users of these products who desire continued use on crops or sites being deleted should contact the applicable registrant on or before dates given above.

ADDRESSES: Withdrawal requests may be submitted by mail, electronically, or in person. Please follow the detailed instructions for each method as provided in Unit I. of the SUPPLEMENTARY INFORMATION. To ensure proper receipt by EPA, it is imperative that you identify docket ID number OPP-2002-0261 in the subject line on the first page of your response.

FOR FURTHER INFORMATION CONTACT: By mail: James A. Hollins, Office of Pesticide Programs (7502C), Environmental Protection Agency, 1200 Pennsylvania Ave., NW., Washington, DC 20460-0001; telephone number: (703) 305-5761; e-mail address: hollins.james@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket ID number OPP-2002-0261. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

This notice announces receipt by the Agency of applications from registrants to delete uses in certain pesticide registrations. These registrations are listed in the following Table 1 by registration number, product name/active ingredient, and specific uses deleted:

Table 1.—Registrations With Requests for Amendments to Delete Uses in Certain Pesticide Registrations
Registration Number | Product Name | Active Ingredient | Delete from Label
006959-00092 | Cesso Fire Ant Killer | Piperonyl butoxide; tetramethrin; permethrin, mixed cis, trans | Indoor uses and use on outside surfaces of buildings
007401-00267 | Hi Yield 5% Malathion Dust | Malathion dust | Use on corn
062719-00081 | Lontrel F Technical | Clopyralid | Residential turf
062719-00084 | Lontrel 35A | Clopyralid | Residential turf
062719-00330 | Esteron 638 | 2,4-Dichlorophenoxyacetic acid, 2-butoxyethyl ester | Cereals underseeded with legumes, orchard floors and sugarcane

Users of these products who desire continued use on crops or sites being deleted should contact the applicable registrant before dates indicated in DATES section of this notice to discuss withdrawal of the application for amendment. This 180-day period, or 30-day where indicated, will also permit interested members of the public to intercede with registrants prior to the Agency's approval of the deletion.

Table 2 includes the names and addresses of record for all registrants of the products in Table 1, in sequence by EPA company number.

Table 2.—Registrants Requesting Amendments to Delete Uses in Certain Pesticide Registrations
EPA Company Number | Company Name and Address
006959 | Cessco Inc. 3609A River Road Johns Island, SC 29455
007401 | Brazos Associates, Inc. Agent For: Voluntary Purchasing Group Inc. 2001 Diamond Ridge Drive Carrollton, TX 75010
062719 | Dow Agrosciences LLC. 9330 Zionsville Road 308/2E225 Indianapolis, IN 46268

III. What is the Agency Authority for Taking This Action?

Section 6(f)(1) of FIFRA provides that a registrant of a pesticide product may at any time request that any of its pesticide registrations be amended to delete one or more uses. The Act further provides that, before acting on the request, EPA must publish a notice of receipt of any such request in the Federal Register. Thereafter, the Administrator may approve such a request.

IV. Procedures for Withdrawal of Request

Registrants who choose to withdraw a request for use deletion must submit such withdrawal in writing to James A. Hollins, at the address under FOR FURTHER INFORMATION CONTACT, postmarked on or before April 9, 2003, or on or before November 12, 2002, for products with registration numbers 007401-00267, 062719-00081, and 062719-00084.

V. Provisions for Disposition of Existing Stocks

The Agency has authorized the registrants to sell or distribute product under the previously approved labeling for a period of 18 months after approval of the revision, unless other restrictions have been imposed, as in special review actions. There is a 12-month existing stocks provision for Dow AgroSciences, EPA registration numbers 062719-00081, and 062719-00084, after approval of revised label.

List of Subjects

Environmental protection, Pesticides and pests.

Dated: September 23, 2002.
Linda Vlier Moos,
Acting Director, Information Resources and Services Division, Office of Pesticide Programs.

[FR Doc. 02-25423 Filed 10-10-02; 8:45 am]

BILLING CODE 6560-50-S